DEPARTMENT OF STATE

[DELEGATION OF AUTHORITY 272]

Delegation of Authority: Office of the Under Secretary for Management, Department of State

1. General Delegation

By virtue of the authority vested in me by Delegation No. 198, dated September 16, 1992, I hereby delegate to the Director of the Office of Foreign Missions and the Deputy Director of the Office of Foreign Missions all functions relating to certifications and reports to Congress regarding the payment by countries of parking fines and penalties owed to the government of the District of Columbia, the City of New York, or any other jurisdiction, and required by section 544 of the Foreign Operations, Export Financing, and Related Programs Appropriations Act, 2004 (Div. D, Pub. L. 108-199) or any other similar provision of law.

2. Technical Provisions

(a) Notwithstanding any provision of this Delegation of Authority, the Secretary of State or the Deputy Secretary of State or the Under Secretary for Management may at any time exercise any function delegated by this Delegation of Authority.

(b) Any act, executive order, regulation or procedure affected by this delegation shall be deemed to be such act, executive order, regulation or procedure as amended from time to time.

(c) This Delegation of Authority shall be published in the Federal Register.

Dated: February 17, 2004.
Grant Green, Jr.,
Under Secretary of State for Management, Department of State.

[FR Doc. 04-8110 Filed 4-8-04; 8:45 am]

BILLING CODE 4710-15-P